COMMISSION ON CIVIL RIGHTS

Agenda and Notice of Public Meeting of the California Advisory Committee

Notice is hereby given, pursuant to the provisions of the rules and regulations of the U.S. Commission on Civil Rights that a meeting of the California Advisory Committee to the Commission will convene at 10 a.m. and adjourn at 3 p.m. on Wednesday, February 13, 2002, at the Crowne Plaza Union Square Hotel, 480 Sutter Street, San Francisco, California 94108. The purpose of the meeting is to hold new member orientation and plan future activities.

Persons desiring additional information, or planning a presentation to the Committee, should contact Philip Montez, Director of the Western Regional Office, 213-894-3437 (TDD 213-894-3435). Hearing-impaired persons who will attend the meeting and require the services of a sign language interpreter should contact the Regional Office at least ten (10) working days before the scheduled date of the meeting.

The meeting will be conducted pursuant to the provisions of the rules and regulations of the Commission.

Dated at Washington, DC, January 17, 2002.
Ivy L. Davis,
Chief, Regional Programs Coordination Unit.

[FR Doc. 02-1855 Filed 1-24-02; 8:45 am]

BILLING CODE 6335-01-P